DEPARTMENT OF COMMERCE

International Trade Administration

[A-570-900]

Diamond Sawblades and Parts Thereof From the People's Republic of China (PRC): Rescission of Antidumping Duty New-Shipper Review

AGENCY: Import Administration, International Trade Administration, Department of Commerce.

SUMMARY: In response to a request from Hanson Diamond Tools (Danyang) Co., Ltd. (Hanson), the Department of Commerce (the Department) initiated a new-shipper review of the antidumping duty order on diamond sawblades and parts thereof from the People's Republic of China (PRC) covering the period January 23, 2009, through October 31, 2010. On January 10, 2011, Hanson withdrew its request; therefore, we are rescinding this new-shipper review.

DATES: Effective Dates: January 26, 2011.

FOR FURTHER INFORMATION CONTACT: Catherine Cartsos or Aditi Palli, AD/CVD Operations 5, Import Administration, International Trade Administration, U.S. Department of Commerce, 14th Street and Constitution Avenue, NW., Washington, DC 20230; telephone: (202) 482-1757 and (202) 482-7871, respectively.

SUPPLEMENTARY INFORMATION:

Background

On January 6, 2011, the Department initiated an antidumping duty new-shipper review of Hanson. See Diamond Sawblades and Parts Thereof From the People's Republic of China: Initiation of Antidumping Duty New Shipper Review, 76 FR 775 (January 6, 2011). On January 10, 2011, Hanson withdrew its request for a new-shipper review.

Rescission of New-Shipper Review

Section 351.214(f)(1) of the Department's regulations provides that the Department may rescind a new-shipper review if the party that requested the review withdraws its request for review within 60 days of the date of publication of the notice of initiation of the requested review. Hanson withdrew its request for a review on January 10, 2011, which is within the 60-day deadline. Therefore, the Department is rescinding the new-shipper review of Hanson.

Effective with the publication of this notice, entries of diamond sawblades and parts thereof from the PRC from Hanson will be subject to the PRC-wide cash-deposit rate of 164.09 percent.

Notification

This notice serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This rescission and notice are published in accordance with sections 751(a)(2)(B) and 777(i)(1) of the Tariff Act of 1930, as amended.

Dated: January 20, 2011.
Gary Taverman,
Acting Deputy Assistant Secretary for Antidumping and Countervailing Operations.

[FR Doc. 2011-1651 Filed 1-25-11; 8:45 am]

BILLING CODE 3510-DS-P